DEPARTMENT OF TRANSPORTATION

Office of the Secretary

Aviation Proceedings, Agreements Filed During the Week Ending December 8, 2000

The following Agreements were filed with the Department of Transportation under the provisions of 49 U.S.C. 412 and 414. Answers may be filed within 21 days after the filing of the application.

Docket Number: OST-2000-8496

Date Filed: December 8, 2000

Parties: Members of the International Air Transport Association

Subject:

PTC COMP 0733 dated 8 December 2000

Mail Vote 098—Resolution 024c (Amending)

Conversion of Local Currency Amounts for Combination/Construction Purposes

Intended effective date: 1 January 2001

Dorothy Y. Beard,
Federal Register Liaison.

[FR Doc. 01-2457 Filed 1-26-01; 8:45 am]

BILLING CODE 4910-62-P